DEPARTMENT OF THE INTERIOR

Bureau of Land Management

[17X.LLWO310000.L13100000.PP0000; OMB Control Number 1004-0137]

Agency Information Collection Activities; Submission to the Office of Management and Budget for Review and Approval; Onshore Oil and Gas Operations and Production

AGENCY: Bureau of Land Management, Interior.

ACTION: Notice of information collection; request for comment.

SUMMARY: In accordance with the Paperwork Reduction Act of 1995, we, the Bureau of Land Management (BLM), are proposing to renew an information collection with revisions.

DATES: Interested persons are invited to submit comments on or before February 15, 2018.

ADDRESSES: Send written comments on this information collection request (ICR) to the Office of Management and Budget's Desk Officer for the Department of the Interior by email at OIRA_Submission@omb.eop.gov; or via facsimile to (202) 395-5806. Please provide a copy of your comments to the U.S. Department of the Interior, Bureau of Land Management, 1849 C Street NW, Room 2134LM, Washington, DC 20240, Attention: Jean Sonneman; or by email to jesonnem@blm.gov. Please reference OMB Control Number 1004-0137 in the subject line of your comments.

FOR FURTHER INFORMATION CONTACT: To request additional information about this ICR, contact Subijoy Dutta by email at sdutta@blm.gov, or by telephone at 202-912-7152. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on September 12, 2017 (82 FR 42832). No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Various Federal and Indian mineral leasing statutes authorize the BLM to grant and manage onshore oil and gas leases on Federal and Indian (except Osage Tribe) lands. In order to fulfill its responsibilities under these statutes, the BLM needs to perform the information collection (IC) activities set forth in the regulations at 43 CFR parts 3160 and 3170, and in onshore oil and gas orders promulgated in accordance with 43 CFR 3164.1. The BLM requests renewal and revision of OMB control number 1004-0137. Some of the revisions are a result of the rules and the order that are listed in the following table:

Recent BLM Actions that Affect Information Collection Activities in Control No. 1004-0137
Title of order or rule | Regulatory information No. | Federal Register citation | Control No.
Onshore Oil and Gas Operations; Federal and Indian Oil and Gas Leases; Onshore Oil and Gas Order Number 1, Approval of Operations (Final Order) | RIN 1004-AE37 | 82 FR 2906 (Jan. 10, 2017) | 1004-0213 (expires March 31, 2020).
Onshore Oil and Gas Operations; Federal and Indian Oil and Gas Leases; Site Security (Final Rule) | RIN 1004-AE15 | 81 FR 81356 (Nov. 17, 2016) | 1004-0207 (expires Jan. 31, 2020).
Waste Prevention, Production Subject to Royalties, and Resource Conservation (Final Rule) 1 | RIN 1004-AE14 | 81 FR 83008 (Nov. 18, 2016) | 1004-0211 (expires Jan. 31, 2018).
¹ This rule is under review in federal district court (State of Wyoming v. U.S. Department of the Interior, Case No. 2:16-CV-0285-SWS (D. Wyo.)).

The effects of the revision of Onshore Order 1 and control number 1004-0213 on control number 1004-0137 are as follows:

• The incorporation of a general requirement to use an electronic system to file Application for Permits to Drill (Form 3160-3) and Notices of Staking;

• The addition of a new activity to authorize requests for a waiver of the electronic-filing requirement; and

• The addition of “Notice of Staking,” which is a historic IC activity that has been in use without a control number.

After control number 1004-0137 is renewed with the changes listed above, we plan to request discontinuation of control number 1004-0213, since we anticipate that all of the IC activities in that control number will be merged with control number 1004-0137.

The effects of the Site Security Rule and control number 1004-0207 on control number 1004-0137 are as follows:

• The transfer of new uses of Form 3160-5 (Sundry Notice) from control number 1004-0207 to control number 1004-0137;

• The removal of “Records for Seals,” a historic IC activity in control number 1004-0137;

• The removal of “Site Security,” a historic IC activity in control number 1004-0137; and

• The removal of “Schematic/Facility Diagrams,” a historic IC activity in control number 1004-0137.

After control number 1004-0137 is renewed, we plan to submit an IC request to reflect the changes listed above, and keep the remaining IC activities in the Site Security rule in control number 1004-0207. Consequently, we do not anticipate the discontinuation of control number 1004-0207.

The sole effect of the Waste Prevention Rule and control number 1004-0211 on control number 1004-0137 is the removal of “Gas Flaring,” a historic IC activity in control number 1004-0137. While there are some continuing IC activities pertaining to venting and flaring in 1004-0211, BLM anticipates that rulemakings in the near future will result in changes to those activities. Because the content of those rulemakings is uncertain at this time, the BLM is not requesting merger of those activities with control number 1004-0137.

In addition to the rules and order listed above, we note a recent BLM rule on hydraulic fracturing and a recent federal district court ruling. On June 21, 2016, the U.S. District Court for the District of Wyoming set aside a BLM rule on hydraulic fracturing (80 FR 16128 (March 26, 2015)). See Wyoming v. U.S. Department of the Interior, Order on Petition for review of Final Agency Action, Case No. 2:15-CV/043-SWS (D. Wyo.). Previously, the court had issued an order postponing the effective date of the rule. Thus, the rule never became effective, and its pre-approved control number (1004-0203) has never been activated.

In these circumstances, the BLM rescinded the March 2015 rule on hydraulic fracturing (82 FR 61924, December 29, 2017) and the BLM is requesting revision of the information collection activity labeled “Subsequent Well Operations” by removing “nonroutine fracturing jobs” from the list of subsequent well operations that require the submission of Form 3160-5. We are also requesting the removal of a reference to “Post hydraulic fracturing chemical disclosures on FracFocus.org” from Item 27 of Form 3160-4, Well Completion or Recompletion Report and Log.

Title of Collection: Onshore Oil and Gas Operations and Production (43 CFR parts 3160 and 3170).

OMB Control Number: 1004-0137.

Form Numbers: Form 3160-3, Form 3160-4, Form 3160-5, and Form 3160-6.

Type of Review: Revision of a currently approved collection.

Respondents/Affected Public: Oil and gas operators on public lands and some Indian lands.

Total Estimated Number of Annual Respondents: 7,500.

Total Estimated Number of Annual Responses: 301,663.

Estimated Completion Time per Response: Varies from 45 minutes to 40 hours, depending on activity.

Total Estimated Number of Annual Burden Hours: 1,835,888.

Respondent's Obligation: Required to obtain or retain a benefit.

Frequency of Collection: On occasion, except for the activities listed in the following table:

Type of response | Regulatory cite(s) | Frequency
Request for Approval of a CAA | 43 CFR 3173.15 | Once.
Response to Notice of Insufficient CAA | 43 CFR 3173.16 | Once.
Request for Approval of an FMP for Future Measurement Facilities | 43 CFR 3173.12(d) | Once.
Request for Approval of an FMP for Existing Measurement Facilities | 43 CFR 3173.12(e) | Once.
Measurement Tickets | 43 CFR 3174.12 | Monthly.

Total Estimated Annual Nonhour Burden Cost: $29,370,000.

An agency may not conduct or sponsor and a person is not required to respond to a collection of information unless it displays a currently valid OMB control number.

The authority for this action is the Paperwork Reduction Act of 1995 (44 U.S.C. 3501 et seq).

Jean Sonneman,
Information Collection Clearance Officer, Bureau of Land Management.

[FR Doc. 2018-00604 Filed 1-12-18; 8:45 am]

BILLING CODE 4310-84-P